DEPARTMENT OF THE INTERIOR

Bureau of Land Management

[BLM_OR_FRN_MO4500177642]

Notice of Availability of the Record of Decision and Approved Resource Management Plan Amendment for the Southeastern Oregon Resource Management Plan, Vale District, Oregon

AGENCY: Bureau of Land Management, Interior.

ACTION: Notice of availability.

SUMMARY: The Bureau of Land Management (BLM) announces the availability of the Record of Decision (ROD) for the Approved Resource Management Plan (RMP) Amendment for the Southeastern Oregon RMP, located in the BLM's Vale District. The State Director, Oregon/Washington signed the ROD on February 16, 2024, which constitutes the decision of the BLM and makes the Approved RMP Amendment effective immediately.

DATES: The State Director, Oregon/Washington signed the ROD/Approved RMP Amendment on February 16, 2024.

ADDRESSES: The ROD/Approved RMP Amendment is available online at the BLM National NEPA Register at https://eplanning.blm.gov/eplanning-ui/project/87435/510. Printed copies of the ROD/Approved RMP Amendment are available for public inspection at the BLM Vale District Office, 100 Oregon Street, Vale, Oregon 97918, telephone: (541) 473-3144.

A copy of the Protest Resolution Report is available at: https://www.blm.gov/programs/planning-and-nepa/public-participation/protest-resolution-reports.

FOR FURTHER INFORMATION CONTACT: Caryn Burri, Planning and Environmental Coordinator, Vale District Office; telephone: (541) 473-3144; email: cburri@blm.gov. Individuals in the United States who are deaf, deafblind, hard of hearing, or have a speech disability may dial 711 (TTY, TDD, or TeleBraille) to access telecommunications relay services for contacting Ms. Burri. Individuals outside the United States should use the relay services offered within their country to make international calls to the point-of-contact in the United States.

SUPPLEMENTARY INFORMATION: The Approved RMP Amendment amends the existing 2002 Southeastern Oregon RMP. The Southeastern Oregon planning area covers approximately 4.6 million acres of public lands in Malheur, Grant, Harney, and Baker Counties. The Approved RMP Amendment provides management direction for lands with wilderness characteristics; makes planning-area-wide travel and transportation/off-highway vehicle (OHV) allocations of open, limited, and closed; and provides management direction for livestock grazing in areas that fail to meet the BLM's Standards for Rangeland Health and for processing voluntary livestock grazing permit relinquishments.

The Approved RMP Amendment prioritizes the protection of 33 of the 76 areas the BLM identifies as having wilderness characteristics. The 33 protected areas will be managed as: Visual Resource Management Class II public lands, which only allows for low levels of change to the landscapes' visual character; Land Tenure Zone 1, where the BLM retains the lands in public ownership for the life of the RMP; OHV limited; and exclusion areas for major rights-of-way and commercial renewable energy projects. No surface occupancy for the development and extraction of leasable and saleable minerals, including new mineral material sites, within the protected areas is allowed. Where roads form the boundary of a protected wilderness characteristic unit, a 250-foot management setback is established. The setback areas total 9,247 acres.

Under the Approved RMP Amendment, two areas totaling 40,368 acres near the city of Vale, Oregon, will be managed as open to OHV use; 319,501 acres currently classified as open will be designated as limited to existing routes, resulting in a total 4.5 million acres of limited OHV classification in the planning area; and 15,829 acres closed to OHV use will remain closed.

The Approved RMP Amendment: (1) requires the BLM to consider taking action in areas that are not meeting Standards for Rangeland Health even if existing livestock grazing is not a causal factor for non-attainment of the standard; (2) clarifies that the BLM will not permit increases to animal unit months if analysis finds that doing so could cause negative impacts to other resources in an area where there is either no rangeland health assessment and evaluation or if the evaluation no longer represents the existing resource conditions; and (3) requires the BLM to review the suitability and compatibility of livestock grazing use with other existing resources in the permitted area when a voluntary permit relinquishment is received. If livestock grazing is found to be unsuitable and/or incompatible, the area will become unavailable to grazing and the forage allocation will be made to another resource. If grazing is found to be suitable and/or compatible, then the allocation of forage to livestock grazing use would remain in place. The BLM could authorize grazing use for the area under a grazing permit or designate the area as a reserve common allotment.

The BLM provided the Proposed RMP Amendment/Final Environmental Impact Statement (PRMPA/FEIS) for a 30-day public protest period starting on June 16, 2023, and received two valid protests. The BLM Assistant Director for Resources and Planning resolved both protests. Responses to protest issues were compiled and documented in a Protest Resolution Report (see ADDRESSES). Minor clarifications to the language in the Approved RMP Amendment related to the way BLM manages Wilderness Study Areas that are released from consideration for Wilderness designation by Congress were made in response to an issue raised on this topic in one of the protests received.

The BLM provided the PRMPA/FEIS to the Governor of Oregon for a 60-day Governor's consistency review on June 16, 2023. The Governor's Office identified some concerns and potential inconsistencies between the PRMPA and State and local plans, policies, and programs. The BLM discussed the concerns with the Governor's Office and, in response, made minor clarifications in the Approved RMP Amendment regarding how lands with wilderness characteristics that are not prioritized for protection will be managed and the way in which BLM manages Wilderness Study Areas that are released from consideration for Wilderness designation by Congress. The clarifications made to the Approved RMP Amendment in response to both the issues raised in one of the protests received and the Oregon Governor's consistency review were minor and did not represent a change requiring the BLM to provide the public with an opportunity to comment as discussed in 43 CFR 1610.2(f)(5) and 1610.5-1.

(Authority: 40 CFR 1506.6; 43 CFR 1610.5-1)

Barry R. Bushue,
State Director.

[FR Doc. 2024-03766 Filed 2-23-24; 8:45 am]

BILLING CODE 4331-24-P